FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 19, 2008.

A. Federal Reserve Bank of Atlanta (Steve Foley, Vice President) 1000 Peachtree Street, N.E., Atlanta, Georgia 30309:

1. F.W. Carraway, Jr., Caroline Carraway Sutton, Ann Elizabeth Ray, Leslie Erin Hammelman, Nicholas Stephens Sutton, Matthew Yancey Sutton, and Emily Carraway Kemp, all of Tallahassee, Florida; F. Wilson Carraway, III, and Evan Caroline Carraway, both of Carrabelle, Florida; Edward H. Carraway and F.W. Carraway, II, both of Sarasota, Florida; Elizabeth Leigh Neilson, Destin, Florida; Rena Katherine Taylor, Alligator Point, Florida; the FMB Banking Corporation KSOP, F. Wilson Carraway and R. Michael Sims, trustees, all of Monticello, Florida; to collectively acquire additional voting shares of FMB Banking Corporation, and thereby indirectly acquire additional voting shares of Farmers & Merchants Bank, both of Monticello, Florida.

Board of Governors of the Federal Reserve System, December 1, 2008.
Robert deV. Frierson,
Deputy Secretary of the Board.

[FR Doc. E8-28716 Filed 12-3-08; 8:45 am]

BILLING CODE 6210-01-S